NUCLEAR REGULATORY COMMISSION

[NRC-2025-2161]

Duke Energy Corporation; Belews Creek; Early Site Permit Application

AGENCY: Nuclear Regulatory Commission.

ACTION: Notice; receipt.

SUMMARY: The U.S. Nuclear Regulatory Commission (NRC) is providing public notice of receipt and availability of an application for an early site permit (ESP) from Duke Energy Corporation for the Belews Creek site located in Stokes County, North Carolina.

DATES: The application for the ESP was received on December 30, 2025.

ADDRESSES: Please refer to Docket ID NRC-2025-2161 when contacting the NRC about the availability of information regarding this document. You may obtain publicly available information related to this document using any of the following methods:

• Federal Rulemaking website: Go to https://www.regulations.gov and search for Docket ID NRC-2025-2161. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The Belews Creek Early Site Permit Application package is available in ADAMS under Accession No. ML25364A004.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Emmanuel Sayoc, Office of Nuclear Reactor Regulation, U.S. Nuclear Regulatory Commission, Washington, DC 20555-0001; telephone: 301-415-4084; email: Emmanuel.Sayoc@nrc.gov.

SUPPLEMENTARY INFORMATION:

I. Discussion

On December 30, 2025, Duke Energy Corporation filed with the NRC, pursuant to Section 103 of the Atomic Energy Act and part 52 of title 10 of the Code of Federal Regulations (10 CFR), “Licenses, Certifications, and Approvals for Nuclear Power Plants,” an application for an ESP for the Belews Creek site located in Stokes County, North Carolina.

In accordance with subpart A of 10 CFR part 52, an applicant may seek an ESP separate from the filing of an application for a construction permit (CP) or combined license (COL). The ESP process allows resolution of issues relating to siting. At any time during the period of an ESP, the ESP holder may reference the ESP in an application for a CP or COL.

II. Further Information

The NRC will publish subsequent Federal Register notices addressing the acceptability of the tendered ESP application for docketing and provisions for participation of the public in the ESP process.

Dated: January 5, 2026.
For the Nuclear Regulatory Commission.
Michelle Hayes,
Chief, Licensing and Regulatory Infrastructure Branch, Division of New and Renewed Licenses, Office of Nuclear Reactor Regulation.

[FR Doc. 2026-00090 Filed 1-6-26; 8:45 am]

BILLING CODE 7590-01-P